DEPARTMENT OF JUSTICE

Notice of Lodging of Proposed Consent Decree Under the Comprehensive Environmental Response, Compensation, and Liablity Act

On July 16, 2025, the Department of Justice lodged a proposed consent decree with the United States District Court for the Eastern District of Illinois in the lawsuit entitled United States v. State of Illinois, Civil Action No. 25-cv-8122 [Docket No. 3].

The United States filed this lawsuit under the Comprehensive Environmental Response, Compensation and Liability Act (CERCLA) against defendant the State of Illinois (State). The complaint requests recovery of costs that the United States incurred responding to releases of hazardous substances at the NPL-8 subarea of the Ottawa Radiation Areas Superfund Site in Ottawa, Illinois. The complaint also seeks injunctive relief. Under the consent decree, the State has agreed to perform valuable in-kind services relating to the radiation contamination in support of the remedial action that the U.S. Environmental Protection Agency will be implementing at NPL-8. These services are valued estimated to cost approximately $10.49 million. In return, the United States provides a covenant not to sue the State under sections 106 and 107 of CERCLA.

The publication of this notice opens a period for public comment on the consent decree. Comments should be addressed to the Assistant Attorney General, Environment and Natural Resources Division, and should refer to United States v. State of Illinois, D.J. Ref. No. 90-11-3-06883/3. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, D.C. 20044-7611.

Any comments submitted in writing may be filed in whole or in part on the public court docket without notice to the commenter.

During the public comment period, the consent decree may be examined and downloaded at this Justice Department website: https://www.justice.gov/enrd/consent-decrees. If you require assistance accessing the consent decree, you may request assistance by email or by mail to the addresses provided above for submitting comments.

Laura Thoms,
Assistant Section Chief, Environmental Enforcement Section, Environment and Natural Resources Division.

[FR Doc. 2025-13661 Filed 7-18-25; 8:45 am]

BILLING CODE 4410-15-P